Title 3—

The President

Proclamation 10376 of April 28, 2022

Law Day, U.S.A., 2022

By the President of the United States of America

A Proclamation

America is unique among the nations of the world because we were not built around any particular tribe, religion, or ethnicity—instead, we were built around an idea: that all people are created equally and deserve to be treated equally throughout their lives. Though we have never fully lived up to that idea, we have never walked away from it either. It is an idea that serves as the heart of American democracy, enshrined in our Constitution 235 years ago on a summer day in Philadelphia. To uphold those fundamental principles of equality, “We the People” would stand sovereign in America as stewards and subjects of the law—and ours would be, in the words of John Adams, “a government of laws, and not of men.”

On Law Day, U.S.A., we recommit to extending the full promise of America to all Americans and to building a Nation in which the extraordinary power vested in “We the People” truly and equally reflects all of us. This year's Law Day theme, “Toward a More Perfect Union: The Constitution in Times of Change,” is a reflection of this critical moment of reckoning for our democracy. The impact of the COVID-19 pandemic on our communities has put a spotlight on lingering inequities that we must continue to address head on. Together, we must build a better America, anchored by the rule of law, to ensure that every one of us can live lives of limitless possibility. Amid unprecedented threats to democracy both here at home and across the globe, the world is watching America to see whether we can meet this moment.

The rule of law is the cornerstone for extending the Nation's full promise to all of our people, including those who were originally excluded when our country was founded. Since my first day in office, I have taken action to ensure that everyone—regardless of race, gender, sexual orientation, gender identity, ethnicity, religion, disability, income, or zip code—is ensured equal justice under the law and is entitled to an equal place in our democracy. My Administration continues to fight for voting rights legislation to protect that most sacred of rights from discriminatory and burdensome constraints, and continues to promote information about the election process and opportunities to register to vote.

The ongoing fight to strengthen American democracy informs our ability to support similar efforts around the world—including the heroic resistance of the Ukrainian people in the unprovoked and unjustified war Russia has thrust upon them. Their fight is part of a larger fight for essential democratic principles that unite all free people: the rule of law; free and fair elections; the freedom to speak, to write, and to assemble; the freedom to worship as one chooses; and the freedom of the press. These principles are essential in a free society, and we are leading efforts to advance good governance, transparency, and accountability and root out the corruption that undermines democratic institutions both at home and abroad.

This is a commitment we must all share. The Robert F. Kennedy Department of Justice Building bears an inscription from Plato: “Justice in the life and conduct of the State is possible only as first it resides in the hearts and souls of the citizens.” Our hearts and souls are up to the task.

On this Law Day, U.S.A., I encourage my fellow Americans to join me in pursuing the path of inclusion and equity over exclusion and hate, so that we may continue to perfect our Union and pass on a stronger democracy for generations to come.

NOW, THEREFORE, I, JOSEPH R. BIDEN JR., President of the United States of America, in accordance with Public Law 87-20, as amended, do hereby proclaim May 1, 2022, as Law Day, U.S.A. I call upon all Americans to acknowledge the importance of our Nation's legal and judicial systems with appropriate ceremonies and activities, and to display the flag of the United States in support of this national observance.

IN WITNESS WHEREOF, I have hereunto set my hand this twenty-eighth day of April, in the year of our Lord two thousand twenty-two, and of the Independence of the United States of America the two hundred and forty-sixth.

[FR Doc. 2022-09555

Filed 5-2-22; 8:45 am]

Billing code 3395-F2-P